DEPARTMENT OF AGRICULTURE

Agricultural Marketing Service

[Doc No. AMS-FGIS-20-0051]

Designation for the Cedar Rapids, Iowa Area

AGENCY: Agricultural Marketing Service, USDA.

ACTION: Notice.

SUMMARY: The Agricultural Marketing Service (AMS) is announcing the designation of Mid-Iowa Grain Inspection, Inc. (Mid-Iowa), to provide official services under the United States Grain Standards Act (USGSA), as amended.

DATES: July 1, 2020.

FOR FURTHER INFORMATION CONTACT: Austyn Hughes, (816) 891-0456 or FGISQACD@usda.gov.

Read Applications: If you would like to view the applications, please contact us at FGISQACD@usda.gov.

SUPPLEMENTARY INFORMATION: In the February 10, 2020, Federal Register (85 FR 7527), AMS requested applications for designation to provide official services in the geographic area presently serviced by Mid-Iowa. Applications were due by March 11, 2020.

AMS received two applications for designation. These applicants were Mid-Iowa and Midwest Grain Inspection, Inc (Midwest). Mid-Iowa is the current official agency in the assigned territory and has applied for the entire territory. Midwest is a new business, requesting designation in two counties in Iowa (Clinton and Jackson) and two counties in Illinois (Carroll and Whiteside) within the territory.

AMS evaluated each application against the designation criteria in section 7(f) of the USGSA (7 U.S.C. 79(f)) and determined that Mid-Iowa is better able to provide official services in the geographic area specified in the Federal Register on February 10, 2020. The designation to provide official services in the specified area of Mid-Iowa is effective July 1, 2020, to June 30, 2023.

Interested persons may obtain official services by contacting this agency at the following telephone number:

Official agency | Headquarters location and telephone | Designation start | Designation end
Mid-Iowa | Cedar Rapids, IA, 319-363-0239 | 07/01/2020 | 6/30/2023

Section 7(f) of the USGSA authorizes the Secretary to designate a qualified applicant to provide official services in a specified area after determining that the applicant is better able than any other applicant to provide such official services (7 U.S.C. 79 (f)).

Authority: 7 U.S.C. 71-87k.

Bruce Summers,
Administrator, Agricultural Marketing Service.

[FR Doc. 2020-17851 Filed 8-13-20; 8:45 am]

BILLING CODE 3410-02-P